DEPARTMENT OF HEALTH AND HUMAN SERVICES

Administration for Children and Families

[Program Announcement No. ACYF-PA-CCB-2002-01]

Early Learning Opportunities Act Discretionary Grants

AGENCY: Administration on Children, Youth and Families, ACF, DHHS.

ACTION: Announcement of the availability of competitive grants to local councils.

SUMMARY: The purpose of this program announcement is to announce the availability of Fiscal Year 2002 Discretionary Funds, authorized by Congress under the FY 2002 Consolidated Appropriations Act, for Early Learning Opportunities Act competitive discretionary grants to local councils.

DATES: The closing date for submission of applications is June 24, 2002. Mailed applications postmarked after the closing date will be classified as late, and therefore will not be eligible for competition.

Deadline: Mailed applications shall be considered as meeting an announced deadline if they are received on or before the deadline date, or sent on or before the deadline date and received by ACF in time for the independent review. Applications must be sent to: Administration on Children, Youth and Families, Child Care Bureau, Program Announcement No. ACYF-PA-CCB-2002-01, Child Care Bureau Conference Management Center, c/o MasiMax Resources, Inc., 1300 Piccard Drive, Suite 203, Rockville, MD 20850, Telephone: 1-240-632-5632.

Applicants must ensure that a legibly dated U.S. Postal Service postmark or a legibly dated, machine produced postmark of a commercial mail service is affixed to the envelope/package containing the application(s). To be acceptable as proof of a timely mailing, a postmark from a commercial mail service must include the logo/emblem of the commercial mail service company, and must reflect the date the package was received by the commercial mail service company from the applicant. Private metered postmarks will not be acceptable as proof of timely mailing.

Applications hand carried by applicants, applicant couriers, or by other representatives of the applicant shall be considered as meeting an announced deadline if they are received on or before the deadline date, between the hours of 9:00 a.m. and 4:30 p.m., EDT, Monday through Friday (excluding Federal holidays) at the above address. (Applicants are cautioned that express/overnight mail services do not always deliver as agreed.)

ACF cannot accommodate transmission of applications by fax or through other electronic media, regardless of date or time of submission and receipt. Therefore, applications transmitted to ACF electronically will not be accepted.

Late Applications: Applications that do not meet the criteria stated above are considered late applications. ACF will notify each late applicant that its application will not be considered in the current competition.

Extension of Deadlines: ACF may extend an application deadline for applicants affected by acts of God such as floods and hurricanes, when there is widespread disruption of mail service, or for other disruptions of services, such as a prolonged blackout, that affect the public at large. A determination to extend or waive deadline requirements rests with the Chief Grants Management Officer.

Notice of Intent To Submit an Application: If you intend to submit an application, you are strongly encouraged to notify the Child Care Bureau by fax at 202-690-5600 at least four weeks prior to the submission deadline date. Your fax should include the following information: the number and title of this announcement; your organization's name and address; and your contact person's name, phone number, fax number, and e-mail address. The information will be used to determine the number of expert reviewers needed to evaluate applications, and to update the mailing list for future program announcements.

FOR FURTHER INFORMATION CONTACT: A copy of this Program Announcement and the necessary application forms can be obtained by contacting 1-800-351-2293. Copies of this Program Announcement can also be downloaded from the Child Care Bureau's Web site at http://www.adf.dhhs.gov/programs/ccb and all necessary application forms can be downloaded at http://www.acf.dhhs.gov/programs/ofs/forms/htm#apps. Call 1-800-351-2293 if you have questions about the application process. The Federal Project Officer for the Early Learning Opportunities Act program is Carol de Barba, who can be reached at 202-690-6243 or by e-mail at cdebarba@acf.dhhs.gov.

SUPPLEMENTARY INFORMATION: The contents of the ACF Uniform Discretionary Grant Application for this program as well as preparation instructions are contained in the program announcement. This Supplementary Information section contains all the instructions needed to apply for a grant under this announcement.

The Supplementary Information section consists of six parts and one appendix. Part I includes background information on the Child Care Bureau, general information about the Early Learning Opportunities Act program, a description of the goals and priorities related to this announcement, and relevant definitions. Part II contains key program information such as project duration, funding requirements, and eligibility. Part III contains the requirements and instructions for preparing the Uniform Project Description. Part IV contains the evaluation criteria upon which applications will be reviewed and evaluated. Part V describes the application and selection process. Part VI provides the required contents of the application as well as instructions for submission. Appendix A is a list of the current ELOA grantees (FY 01) and the geographic areas they serve.

The contents of the Supplementary Information section are outlined below:

Table of Contents

Part I. General Information

A. The Child Care Bureau

B. The Early Learning Opportunities Act

C. Early Learning Opportunities Act Grants—Goals and Priorities

D. Definitions

Part II. Key Program Information and Requirements

A. Purposes

B. Citations

C. Number of Awards

D. Project Duration and Budget Period

E. Funding Levels and Reservations

F. Allowable Early Learning Activities

G. Non-Federal Share of Project Costs

H. Other Financial Requirements

I. Eligibility

J. Protections

Part III. General Instructions for Preparing the Uniform Project Description

A. Project Summary/Abstract/Geographic Location

B. Objectives and Need for Assistance

C. Results or Benefits Expected

D. Approach/Evaluation

E. Additional Information

F. Budget and Budget Justification

Part IV. Evaluation Criteria

Criterion 1. Objectives and Need for Assistance

Criterion 2. Results and Benefits Expected

Criterion 3. Approach/Evaluation

Criterion 4. Additional Information

Criterion 5. Budget and Budget Justification

Part V. Application and Selection Process

A. Assistance to Prospective Grantees

B. Application Requirements

C. Paperwork Reduction Act of 1995

D. Notification under Executive Order 12372

E. Availability of Forms and Other Materials

F. Application Consideration and Selection

Part VI.

Part VI. Submission Instructions

A. Contents of Application

B. Submission of Application

Appendix A. List of Current ELOA Grantees (FY 01) and Geographic Service Areas

Part I. General Information

A. The Child Care Bureau

The Child Care Bureau was established in 1994 to provide leadership to efforts to enhance the quality, affordability, and supply of child care. The Child Care Bureau administers the Child Care and Development Fund (CCDF), a $4.8 billion child care program that includes funding for child care subsidies and activities to improve the quality and availability of child care. CCDF was created after amendments to ACF child care programs by Title VI of the Personal Responsibility and Work Opportunity Reconciliation Act of 1996 consolidated four Federal child care funding streams including the Child Care and Development Block Grant, AFDC/JOBS Child Care, Transitional Child Care, and At-Risk Child Care. With related State and Federal funding, CCDF provides close to $11 billion a year to States, Territories, and Tribes to help low-income working families access child care services.

The Bureau works closely with ACF Regional Offices, States, Territories, and Tribes to assist with, oversee, and document implementation of new policies and programs in support of State, local, and private sector administration of child care services and systems. In addition, the Bureau collaborates extensively with other offices throughout the Federal government to promote integrated, family-focused services, and coordinated child care delivery systems. In all of these activities, the Bureau seeks to enhance the quality, availability, and affordability of child care services, support children's healthy growth and development in safe child care environments, enhance parental choice and involvement in their children's care, and facilitate the linkage of child care with other community services.

B. The Early Learning Opportunities Act

The Early Learning Opportunities Act (ELOA) was passed by Congress to award grants to States to enable them to increase, support, expand and better coordinate early learning opportunities for children and their families through local community organizations. The purposes of the Act are to: (1) Increase the availability of voluntary programs, services, and activities that support early childhood development, increase parent effectiveness, and promote the learning readiness of young children so that young children enter school ready to learn; (2) support parents, child care providers, and caregivers who want to incorporate early learning activities into the daily lives of young children; (3) remove barriers to the provision of an accessible system of early childhood learning programs in communities throughout the United States; (4) increase the availability and affordability of professional development activities and compensation for caregivers and child care providers; and (5) facilitate the development of community-based systems of collaborative service delivery models characterized by resource sharing, linkages between appropriate supports, and local planning for services.

The Act provides that if the amount appropriated for this program in any fiscal year is less than $150 million, the Department of Health and Human Services (DHHS) shall award grants on a competitive basis directly to Local Councils. DHHS is administering the program under this special provision in FY 2002.

C. Early Learning Opportunities Act Grants—Goals and Priorities

In FY 2002, grants will be awarded, on a competitive basis, directly to those Local Councils that can best assess their community needs and create a plan to facilitate the development of community-based systems and collaborative service delivery models.

ELOA grants will be available to Local Councils that have been so designated by a local government entity, Indian Tribe, Regional Corporation, or Native Hawaiian entity. Local Councils will be required to submit the results of a current needs and resources assessment, documenting the needs of the young children and families in their locality, as well as a local plan that addresses the most significant needs. To receive an ELOA grant, the plan must include activities for “Enhancing Early Childhood Literacy,” AND two or more of the other allowable ELOA activities specified in Part II, F.

In developing local plans and applications under this announcement, ACF encourages Local Councils to incorporate strategies to promote the involvement of faith-based providers, father involvement, healthy marriage, ELOA services in rural communities, and support to families transitioning-off welfare. The implementation plan must describe the outcome measures for each proposed activity.

D. Definitions

Administrative Costs—eans costs related to the overall management of the program, which do not directly relate to the provision of program services. These costs can be in both the personnel and non-personnel budget categories and include, but are not limited to: salaries of managerial and administrative staff, indirect costs, and other costs associated with administrative functions such as accounting, payroll services, or auditing. Note: Not more than three percent of the total Federal share received by the Local Council through this announcement shall be used to pay for the “administrative costs” of the Local Council, including administrative costs of any sub-grantees and third parties in carrying out activities funded under the grant.

Budget Period—for the purposes of this announcement, budget period means the period of time for which ELOA funds are made available to a particular grantee (i.e., beginning on September 30, 2002 and ending on February 28, 2004).

Caregiver—means an individual, including a relative, neighbor, or family friend, who regularly or frequently provides care, with or without compensation, for a child for whom the individual is not the parent.

Child Care Provider—means a provider of non-residential child care services (including center-based, family-based, and in-home child care services) for compensation who or that is legally operating under State law, and in compliance with applicable State and local requirements for the provision of child care services.

Early Learning—when used with respect to a program or activity, means learning designed to facilitate the development of cognitive, language, motor, and social-emotional skills for, and to promote learning readiness in, young children (see definition of young child).

Early Learning Program—means a program of services or activities that helps parents, caregivers, and child care providers to incorporate early learning into the daily lives of young children; or a program that directly provides early learning to young children.

Indian Tribe—has the meaning given the term in section 4 of the Indian Self-Determination and Education Assistance Act (25 U.S.C. 450b).

Local Council—means a Local Council established or designated by a local government, Indian Tribe, Regional Corporation, or Native Hawaiian entity to serve as applicant under this announcement serving one or more localities.

Local Government—means a county, municipality, city, town, township, borough, parish, select board, council of local governments (whether or not incorporated as a nonprofit corporation under State law), intra-state district, a general purpose unit of local government, and any other interstate or regional unit of local government. “Local Government” does not mean any of the 50 States, or any agency or instrumentality of a State exclusive of local governments.

Locality—means a city, county, borough, township, or area served by another general purpose unit of local government, an Indian Tribe, a Regional Corporation, or a Native Hawaiian entity.

Native Hawaiian Entity—means a private non-profit organization that serves the interests of Native Hawaiians, and is recognized by the Governor of Hawaii for the purpose of planning, conducting, or administering programs (or parts of programs) for the benefit of Native Hawaiians.

Non-Federal Share—means that portion of project costs not borne by the Federal government. Under ELOA, the minimum required Non-Federal Share is 15 percent of the total Federal cost of the approved project.

Parent—means a biological parent, an adoptive parent, a stepparent, a foster parent, or a legal guardian of, or a person standing in loco parentis to a child.

Program Income—means gross income earned by the grantee or subgrantee that is directly generated by a grant supported activity, or earned only as a result of the award. 45 CFR parts 74 and 92 include similar types of earned revenue, which qualify as program income. These include but are not limited to income from fees for services performed and the use of rental property.

Project Period—for the purposes of this announcement, project period means a starting date of September 30, 2002 and an ending date of February 28, 2004.

Real Property—means land, including land improvements, structures and appurtenances thereto, excluding movable machinery and equipment.

Regional Corporation—means a Native Alaska Regional Corporation; an entity listed in section 419(4)(B) of the Social Security Act (42 U.S.C. 619(4)(B)).

Training—means instruction in early learning that—(a) Is required for certification under State and local laws, regulations, and policies; (b) Is required to receive a nationally or State recognized credential or its equivalent; (c) is received in a postsecondary education program focused on early learning or early childhood development in which the individual is enrolled; or (d) is provided, certified, or sponsored by an organization that is recognized for its expertise in promoting early learning or early childhood development.

Young Child—for purposes of this program, means any child from birth to the age of mandatory school attendance in the State where the child resides.

Part II. Key Program Information and Requirements

A. Purposes

The purposes of the Early Learning Opportunities Act (ELOA) are—

• To increase the availability of voluntary programs, services, and activities that support early childhood development, increase parent effectiveness, and promote the learning readiness of young children so that young children enter school ready to learn;

• To support parents, child care providers, and caregivers who want to incorporate early learning activities into the daily lives of young children;

• To remove barriers to the provision of an accessible system of early childhood learning programs in communities throughout the United States;

• To increase the availability and affordability of professional development activities and compensation for caregivers and child care providers; and

• To facilitate the development of community-based systems of collaborative service delivery models characterized by resource sharing, linkages between appropriate supports, and local planning for services.

B. Citations

1. Sponsorship. Grants being awarded under this announcement are sponsored by the Child Care Bureau (the Bureau) of the Administration on Children, Youth and Families (ACYF) in the Administration for Children and Families (ACF), U.S. Department of Health and Human Services (DHHS). The Bureau will manage the grants.

2. Funding Authority. Funding is provided by ACF under the Consolidated Appropriations Act, 2002 (Pub. L. 107-116) and Pub. L. 106-554, the Early Learning Opportunities Act.

3. Catalog of Federal Domestic Assistance. The Catalog of Federal Domestic Assistance Number is 93.577.

C. Number of Awards

The Bureau estimates that between 25 and 35 grants will be awarded in FY 2002, subject to the availability of funds and the results of the review process.

D. Project Duration and Budget Period

The project period for all ELOA grants will be 17 months and will begin on September 30, 2002 and end on February 28, 2004.

E. Funding Levels and Reservations

Individual awards will be between $250,000 and $1,000,000 depending on the size of the population to be served as well as geographic area to be served and the reasonableness of the budget in relationship to the services to be provided. While this will vary depending on the scope of the applications submitted, awards are expected to average $700,000.

The Act (section 809) provides that the Secretary shall reserve a portion of each year's total ELOA appropriation for Indian Tribes, Regional Corporations, and Native Hawaiian entities. ACF anticipates competitively awarding funds to at least one Local Council designated by an Indian Tribe and one Local Council designated by an Alaska Native Regional Corporation or Native Hawaiian entity, subject to receipt of applications meeting the requirements of the Act as reflected in this announcement. ACF intends to award no less than one percent of the FY 2002 ELOA appropriation in grants to Indian Tribes, Alaska Natives, and Native Hawaiians.

F. Allowable Early Learning Activities

In general, Local Councils may use ELOA funds to pay for developing, operating, or enhancing voluntary early learning programs that are likely to produce sustained gains in early learning. The President has identified the enhancement of early childhood literacy as a priority for this administration. Therefore, for FY 2002 grants, the Child Care Bureau will only consider for funding those Local Councils that include in their applications activities for “Enhancing Early Childhood Literacy” (see Item a. below), and two or more of the other allowable activities listed below (i.e., Items b. through g.).

The Project Summary/Abstract must contain statements that clearly identify which of the following allowable early learning activities are included in the project.

(a) Enhancing early childhood literacy AND two or more of the following allowable activities:

(b) Helping parents, caregivers, child care providers, and educators increase their capacity to facilitate the development of cognitive, language comprehension, expressive language, social emotional, and motor skills, and promote learning readiness;

(c) Promoting effective parenting;

(d) Developing linkages among early learning programs within a community and between early learning programs and health care services for young children;

(e) Increasing access to early learning opportunities for young children with special needs including developmental delays, by facilitating coordination with other programs serving such young children;

(f) Increasing access to existing early learning programs by expanding the days or times that the young children are served, by expanding the number of young children served, or by improving the affordability of the programs for low-income families;

(g) Improving the quality of early learning programs through professional development and training activities, increased compensation, and recruitment and retention incentives, for early learning providers;

(h) Removing ancillary barriers to early learning, including transportation difficulties and absence of programs during nontraditional work times.

G. Non-Federal Share of Project Costs

Grantees must provide at least 15 percent of the total approved project cost. The total approved project cost is the sum of the Federal share and the non-Federal share. Therefore, a project requesting $500,000 in Federal funds must include a match of at least $88,235 (15 percent of the total approved project cost). To compute the non-Federal share divide the Federal share by .85 and subtract the Federal share from that amount. For example: $500,000 ÷ .85 = $588,235 minus $500,000 = $88,235. The total approved project cost in this example is $588,235.

The non-Federal share may be contributed in cash or in-kind, fairly evaluated, including facilities, equipment, or services, which may be provided from State or local public sources, or through donations from private entities. For the purposes of this paragraph, the term “facilities” includes the use of facilities, but the term “equipment” means donated equipment and not the use of equipment. Grantees will be held accountable on the grant award for commitments of non-Federal resources even if the approved amount exceeds the minimum match required. Failure to provide the amount specified on the grant award can result in a disallowance of Federal funds.

H. Other Financial Requirements

1. Amounts received shall be used to supplement and not supplant other Federal, State, and local public funds expended to promote early learning. No funds provided shall be used to carry-out an activity funded under another provision of law providing for Federal child care or early learning programs, unless an expansion of such activity is identified in the local needs assessment and performance goals.

2. Not more than three percent of the total Federal share received by the Local Council through this announcement shall be used to pay for the administrative costs (as defined in Part I, D.) of the Local Council, including the administrative costs of any of its sub-grantees and third parties, in carrying-out activities funded under the grant.

3. Local Councils receiving assistance under the ELOA shall ensure that programs, services, and activities assisted under this program, which customarily require a payment for such programs, services, or activities, adjust the cost of such programs, services, and activities provided to the individual or the individual's child based on the individual's ability to pay.

4. Applications proposing to use ELOA funds for construction purposes or for the purchase of real property will not be considered for funding.

I. Eligibility

Designation of Local Council by Local Government Entity

An eligible applicant for FY 2002 ELOA grants must be designated by a local government entity (or Indian Tribe, Regional Corporation, or Native Hawaiian entity) as a “Local Council” to serve one or more localities. The applicant must include a letter in its application from an appropriate local government entity specifically designating it as the Local Council. The local government entity making the designation must also clearly explain in its letter the source/nature of its authority to make such a designation. Applicants from Indian Tribes and Regional Corporations must include a tribal resolution from the governing body of the Tribe(s) or Regional Corporation(s), which designates the Local Council for the purpose of the ELOA.

Composition of a Local Council

To receive an award, the membership of the Local Council must be composed of:

(a) Representatives of local agencies that will be directly affected by early learning programs assisted under the ELOA and this announcement;

(b) Parents;

(c) Other individuals concerned with early learning issues in the locality, such as representatives of entities providing elementary education, child care resource and referral services, early learning opportunities, child care, and health services; and

(d) Other key community leaders.

In addition, Local Councils may be faith-based organizations or may include faith-based organizations in their membership, provided all eligibility criteria outlined above are met. Local Councils that were formed prior to the date of enactment of the ELOA and that meet the membership requirements above will be considered eligible. Local Councils and their Fiscal Agents must also be able to demonstrate organizational and fiscal capabilities.

Local Council as Applicant and Designation of Fiscal Agent

A Local Council may enter into an agreement with an entity that has a demonstrated capacity for administering grants that is affected by, or concerned with, early learning issues, including the State, to serve as fiscal agent for the administration of grant funds received by the Local Council under this program. This may include faith-based organizations. The Local Council, however, must be the applicant under this announcement, and if selected to receive a grant, must be responsible for ensuring compliance with the activities and terms of the grant. If the Local Council is not incorporated or does not have an employer identification number (EIN) issued by the Internal Revenue Service), it may designate its fiscal agent as the applicant applying “On Behalf of the Local Council” (see Items 5 and 6 on the SF-424).

Non-Profit Status

Non-profit organizations submitting an application must submit proof of their non-profit status in their applications at the time of submission. This can be accomplished by providing a copy of the applicant's listing in the Internal Revenue Service's (IRS) most recent list of tax-exempt organizations described in section 501(c)(3) of the IRS code, or by providing a copy of the currently valid IRS tax exemption certificate, or by providing a copy of the articles of incorporation as a not-for-profit organization, bearing the seal of the State in which the corporation or association is domiciled.

Geographic Location and Locality(ies) To Be Served

Applicants must describe the precise location of the project and boundaries of the area to be served at the beginning of the Project Description Summary/Abstract (see Part III, A. below) including the following: the State, county(ies), specific locality(ies) (e.g., city, town, township, borough, parish, or area served by another general purpose of local government, Indian Tribe, Regional Corporation (Alaska), or native Hawaiian entity).

Note: Applications received from multiple applicants proposing to serve the same or overlapping geographic areas will not be considered for award. Applicants that propose to serve all or part of a geographic area, which is currently being served by an ELOA grantee (See Appendix A) also will not be considered for award.

Other Eligibility Information

Local Councils in each of the 50 States of the United States, the District of Columbia, and the Commonwealth of Puerto Rico are eligible to apply under this announcement. Only Local Councils, not individuals, are eligible to apply under this announcement. Local Councils (and the localities served by those Local Councils) that received FY 2001 ELOA grants will not be considered for FY 2002 awards under this announcement.

J. Protections

1. No person, including a parent, shall be required to participate in any program of early childhood education, early learning, parent education, or developmental screening pursuant to the provisions of the Early Learning Opportunities Act.

2. Nothing in the Early Learning Opportunities Act shall be construed to affect the rights of parents otherwise established in Federal, State, or local law.

3. No entity that receives funds under the Early Learning Opportunities Act shall be required to provide services under this announcement through a particular instructional method or in a particular instructional setting to comply with the ELOA.

Part III. General Instructions for Preparing the Uniform Project Description

General Instructions for Preparing a Full Project Description

ACF is particularly interested in specific factual information and statements of measurable goals in quantitative terms. Project descriptions are evaluated on the basis of substance, not length. Extensive exhibits are not required. Cross-referencing should be used rather than repetition. Supporting information concerning activities that will not be directly funded by the grant or information that does not directly pertain to an integral part of the grant-funded activity should be placed in an appendix.

The Project Description Overview

Purpose

The project description provides a major means by which an application is evaluated and ranked to compete with other applications for available assistance. The project description should be concise and complete and should address the activity for which Federal funds are being requested. Supporting documents should be included where they can present information clearly and succinctly. In preparing your project description, all information requested through each specific evaluation criteria should be provided. Awarding offices use this and other information in making their funding recommendations. It is important, therefore, that this information be included in the application.

Pages should be numbered and a table of contents should be included for easy reference.

A. Project Summary/Abstract/Geographic Location

Provide a summary of the project description (a page or less) with reference to the funding request. Describe the precise location of the project and boundaries of the area to be served by the proposed project. Maps or other graphic aids may be attached.

B. Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

C. Results or Benefits Expected

Identify the results and benefits to be derived. For example: Specify the number of children and families to be served and how the services to be provided will be funded consistent with the local needs assessment. Or, explain how the expected results will benefit the population to be served in meeting its needs for early learning services and activities.

D. Approach/Evaluation

Approach

Outline a plan of action, which describes the scope and detail of how the proposed work will be accomplished. Account for all functions or activities identified in the application. Cite factors, which might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Evaluation

Provide a narrative addressing how the results of the project and the conduct of the project will be evaluated. In addressing the evaluation of results, state how you will determine the extent to which the project has achieved its stated objectives and the extent to which the accomplishment of objectives can be attributed to the project. Discuss the criteria to be used to evaluate results, and explain the methodology that will be used to determine if the needs identified and discussed are being met and if the project results and benefits are being achieved. With respect to the conduct of the project, define the procedures to be employed to determine whether the project is being conducted in a manner consistent with the work plan presented and discuss the impact of the project's various activities on the project's effectiveness.

E. Additional Information

The following are requests for additional information that need to be included in the application:

Staff and Position Data

Provide a biographical sketch for each key person appointed and a job description for each vacant key position. A biographical sketch will also be required for new key staff as appointed.

Plan for Continuance Beyond Grant Support

Provide a plan for securing resources and continuing project activities after Federal assistance has ceased.

Organizational Profiles

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission.

The non-profit agency can accomplish this by providing a copy of the applicant's listing in the Internal Revenue Service's (IRS) most recent list of tax-exempt organizations described in section 501(c)(3) of the IRS code, or by providing a copy of the currently valid IRS tax exemption certificate, or by providing a copy of the articles of incorporation bearing the seal of the State in which the corporation or association is domiciled.

Third-Party Agreements

Include written agreements between grantees and subgrantees or subcontractors or other cooperating entities. These agreements must detail scope of work to be performed, work schedules, remuneration, and other terms and conditions that structure or define the relationship.

Letters of Support

Provide statements from community, public and commercial leaders that support the project proposed for funding. All submissions should be included in the application OR by application deadline.

F. Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

General

The following guidelines are for preparing the budget and budget justification. Both Federal and non-Federal resources shall be detailed and justified in the budget and narrative justification. For purposes of preparing the budget and budget justification, “Federal resources” refers only to the ACF grant for which you are applying. Non-Federal resources are all other Federal and non-Federal resources. It is suggested that budget amounts and computations be presented in a columnar format: first column, object class categories; second column, Federal budget; next column(s), non-Federal budget(s), and last column, total budget. The budget justification should be a narrative.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information, which supports the amount requested.

Contractual

Description: Costs of all contracts for services and goods except for those that belong under other categories such as equipment, supplies, construction, etc. Third-party evaluation contracts (if applicable) and contracts with secondary recipient organizations, including delegate agencies and specific project(s) or businesses to be financed by the applicant, should be included under this category.

Justification: All procurement transactions shall be conducted in a manner to provide, to the maximum extent practical, open and free competition. Recipients and subrecipients, other than States that are required to use Part 92 procedures, must justify any anticipated procurement action that is expected to be awarded without competition and exceed the simplified acquisition threshold fixed at 41 USC 403(11) (currently set at $100,000). Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description, and a justification for each cost under this category.

Program Income

Description: The estimated amount of income, if any, expected to be generated from this project.

Justification: Describe the nature, source, and anticipated use of program income in the budget or refer to the pages in the application, which contain this information.

Non-Federal Resources

Description: Amounts of non-Federal resources that will be used to support the project as identified in Block 15 of the SF-424.

Justification: The firm commitment of these resources must be documented and submitted with the application in order to be given credit in the review process. A detailed budget must be prepared for each funding source.

Part IV. Evaluation Criteria

Criterion 1. Objectives and Need for Assistance (20 points)

1. The extent to which the applicant specifies the goals and objectives of the project and describes how implementation will fulfill the purposes of the ELOA. The applicant must demonstrate a thorough understanding of the importance of early learning services and activities that help parents, caregivers, and child care providers incorporate early learning into the daily lives of young children, as well as programs that directly provide early learning to young children.

2. The extent to which the applicant demonstrates the need for assistance including identification and discussion of its needs and resources assessment concerning early learning services. Relevant data from the assessment should be included. Participant and beneficiary information must also be included.

3. The extent to which the applicant describes its resources assessment and the relevancy of the results as the basis for determining its objectives and need for assistance.

4. The extent to which the applicant demonstrates how it will give preference to supporting activities/projects that maximize the use of resources through collaboration with other early learning programs, provide continuity of services for young children across the age spectrum, and help parents and other caregivers promote early learning with their young children. The applicant must provide information about how decisions will be made about who will provide each early learning service and/or activity funded through this grant.

5. The extent to which the applicant demonstrates that it has worked with local education agencies to identify cognitive, social, and emotional, and motor developmental abilities which are necessary to support children's readiness for school; that the programs, services, and activities assisted under this title will represent developmentally appropriate steps toward the acquisition of those abilities; and, that the programs, services, and activities assisted provide benefits for children cared for in their own homes as well as children placed in the care of others.

Criterion 2. Results and Benefits Expected (15 Points)

1. The extent to which the applicant specifies the number of children and families to be served and how the services to be provided will be funded consistent with the assessment.

2. The extent to which the applicant explains how the expected results will benefit the population to be served in meeting its needs for early learning services and activities.

3. The extent to which the applicant describes how it will assess the effects that services provided under this grant have had in addressing the needs identified under its needs and resources assessment. Particular attention must be paid to discussing how the effectiveness of the activities included in their implementation plan (approach) will be assessed.

4. The extent to which the applicant demonstrates that completion of the proposed objectives will result in specific, measurable results. The specific information provided in the narrative and plan on expected results or benefits for each objective is the standard upon which its achievement can be evaluated at the end of the project period (i.e., 17 months).

Criterion 3. Approach/Evaluation (35 Points)

1. The extent to which the applicant includes a detailed plan that identifies goals and objectives, relates those goals and objectives to the findings of its needs and resources assessment, and provides a work plan identifying specific activities necessary to accomplish the stated goals and objectives. The plan must demonstrate that each of the project objectives and activities supports the current needs and resource assessment and can be accomplished with the available or expected resources during the proposed project period.

In addition, the plan must:

a. Indicate when the objective and major activities under each objective will be accomplished (a timeline is recommended);

b. Specify who will conduct the activities under each objective;

c. Describe how subcontractors will be chosen and held accountable for carrying out activities in compliance with this application, and grant terms and conditions;

d. Describe how actual and perceived conflict of interest will be avoided if the Local Council is also a direct service provider; and

e. Indicate how programs, services, and activities are provided based on the family's ability to pay (for services that customarily require a payment).

2. The extent to which the applicant proposes to implement activities consistent with ACF priorities as supported by the community needs and resources assessment. (ACF priorities include enhancing early literacy, involving faith-based providers, involving fathers, and strengthening marriage, as well as supports to rural communities, and families transitioning-off welfare.)

3. The extent to which the applicant describes how the project will form collaborations among local early learning, youth, social service, educational providers (including faith-based organizations) to maximize resources and concentrate efforts on areas of greatest need.

4. The extent to which the applicant describes its work with local educational agencies to identify cognitive, social, emotional, and motor developmental abilities, which are necessary to support children's readiness for school.

5. The extent to which the applicant's programs, services, and activities assisted under ELOA will represent developmentally appropriate steps toward the acquisition of those abilities.

6. The extent to which the applicant's programs, services, and activities assisted under this announcement provide benefits for children cared for in their own homes as well as children placed in the care of others.

7. The extent to which the applicant's plan describes how unanticipated problems will be resolved to ensure that the project will be completed on time and with a high degree of quality.

8. The extent to which the applicant includes a feasible plan for securing resources and continuing early learning activities after Federal assistance has ended.

Criterion 4. Additional Information (20 Points)

1. The extent to which the applicant demonstrates its staff and organizational experience particularly in areas of facilitating needs and resources assessments and collaborative activities as they relate to early learning services. The applicant must also document its experience in facilitating such activities and the length of time the applicant has been involved in these activities. Evidence of the applicant's ability to manage a project of the proposed scope is demonstrated. The application clearly shows the successful management of projects of similar scope by the organization, and/or by the individuals designated to manage the project.

2. The extent to which the applicant provides position descriptions and/or resumes of key personnel, including those of consultants, which clearly relate to the personnel staffing required to achieve the project objectives and the proposed budget. The position descriptions and resumes must clearly describe the qualifications, any specialized skills, and duties for each position necessary for overall quality of the project. Resumes must be included if individuals have been identified for positions in the application. The applicant must also list organizations and consultants who will participate in the project along with a short description of the nature of their effort or contribution.

3. The extent to which the applicant describes its agency including the types, quantities, and costs of services it provides. The applicant must discuss the role of other organizations that will be involved in providing direct services to children and families through this grant.

4. If the Local Council plans to work with a fiscal agent, that entity, its qualifications, and its relationship to the Council must be described.

5. The extent to which the applicant provides organizational charts for the Local Council and its members, and any third-parties. List all sites, including addresses, phone numbers and staff contacts.

6. The extent to which the applicant demonstrates active participation of the Local Council in the development of its application and the project, if funded. Such evidence includes but is not limited to minutes of council meetings, resolutions, newspaper articles, and letters of commitment/support.

7. The extent to which the applicant demonstrates a feasible plan for securing resources and continuing project activities after Federal assistance has ceased.

8. The extent to which the applicant includes third-party agreements with cooperating entities, which detail the scope of work to be performed, work schedules, remuneration, and any other terms and conditions that structure or define the relationship. Information about new agreements that will be executed with subgrantees, contractors, or other cooperating entities should also be included.

9. The extent to which the applicant demonstrates support for the project from parents, the community at-large, and other key leaders and stakeholders.

Criterion 5. Budget and Budget Justification (10 Points)

1. The extent to which the applicant demonstrates that the funds requested will be used for early learning services that are allowed under this announcement. The discussion must refer to (1) the budget information presented on Standard Forms 424 and 424A and the applicant's budget justification and (2) the results or benefits identified under Criterion 2 above. Funds must be designated to allow two representatives from the Local Council to attend one two-day grantee meeting in Washington, DC.

2. The extent to which the project's costs are reasonable in view of the activities to be carried out, that the funds are appropriately allocated across component areas, and that the budget is sufficient to accomplish the objectives.

3. The extent to which the applicant and/or its fiscal agent demonstrates that it has sufficient fiscal and accounting capacity to ensure prudent use, proper disbursement, and accurate accounting of funds.

Part V. Application and Selection Process

A. Assistance to Prospective Grantees

Potential grantees can direct questions about application forms to the Administration on Children, Youth and Families, Child Care Bureau Program Announcement at 1-800-351-2293. Questions about the ELOA program requirements may be directed to the Federal Project Officer at 202-690-6243. .

B. Application Requirements

To be considered for a grant, each application must be submitted on the forms provided in the Application Kit and in accordance with the guidance provided in Parts V and VI below.

C. Paperwork Reduction Act of 1995

Public reporting burden for this collection of information is estimated to average 10 hours per response, including the time for reviewing instructions, gathering and maintaining the data needed, and reviewing the collection of information.

The project description is approved under OMB control number 0970-0139, which expires December 31, 2003.

An agency may not conduct or sponsor, and a person is not required to respond to, a collection of information unless it displays a currently valid OMB control number.

D. Notification Under Executive Order 12372

This program announcement is not covered under Executive Order 12372, “Intergovernmental Review of Federal Programs,” and 45 CFR part 100, “Intergovernmental Review of Department of Health and Human Services Program and Activities.”

E. Availability of Forms and Other Materials

A copy of the standard forms that must be submitted as part of an application and instructions for completing the application are provided in the Application Kit. These standard forms can also be downloaded and printed at: http://www.acf.dhhs.gov/programs/ofs/forms.htm. Additional copies of this announcement may be obtained by calling 1-800-351-2293.

F. Application Consideration and Selection

Each application will undergo an eligibility and conformance review by Federal Child Care Bureau staff. Applications that pass the eligibility and conformance review will be evaluated on a competitive basis according to the evaluation criteria in Part IV of this program announcement. This review will be conducted in Washington, DC by panels of Federal and non-Federal experts knowledgeable in the areas of early learning, child care, early childhood education, and other relevant program areas.

Application review panels will assign a score to each application and identify its strengths and weaknesses. The Child Care Bureau will conduct an administrative review of the applications and results of the competitive review panels and make recommendations for funding to the Commissioner, ACYF.

Subject to the recommendation of the Child Care Bureau's Associate Commissioner, the Commissioner, ACYF, will make the final selection of the applications to be funded. Applications may be funded in whole or in part depending on: (1) The ranked order of applicants resulting from the competitive review; (2) staff review and consultations; (3) the combination of projects that best meets the Bureau's objectives; (4) the funds available; (5) the statutory requirement that reserves funds for Indian Tribes, Alaska Native Regional Corporations, and Native Hawaiian entities; and (6) other relevant considerations. The Commissioner may also elect not to fund any applicants with known management, fiscal, reporting, program, or other problems which make it unlikely that they would be able to provide effective services.

Successful applicants will be notified through the issuance of a Financial Assistance Award that sets forth the amount of funds granted, the terms and conditions of the grant award, the effective date of the award, and the budget period for which support is given, and the total project period for which support is provided. Organizations whose applications will not be funded will be notified in writing by the Commissioner, ACYF. Every effort will be made to notify all unsuccessful applicants as soon as possible after final decisions are made.

Part VI. Submission Instructions

A. Contents of Application

A complete application consists of the following items in the order listed:

1. Application for Federal Assistance (Standard Form 424, REV 4-92). Follow the instructions on the back of the form. In Item 5 on the SF-424, enter the name of the applicant [Local Council]. However, if the Local Council is not incorporated or does not have an EIN issued by the IRS, the name of its fiscal agent must be entered followed by “On Behalf of the [name of Local Council]. For example: Caring County Community Services On Behalf of the Early Childhood Alliance Local Council. Enter the Employer Identification Number (EIN) in Item 6. The EIN must be the number assigned to the entity identified in Item 5. In Item 8 on the SF-424, check “New.” In Item 10, clearly identify the Catalog of Federal Domestic Assistance program title and number (i.e., Early Learning Opportunities Act, 93.577). A signature on the application constitutes an assurance that the applicant will comply with the relevant Departmental regulations contained in 45 CFR part 74 or part 92.

2. Budget Information—Non-Construction Programs (Standard Form 424A). Follow the instructions on the back of the form.

3. Assurances—Non-Construction Programs (Standard Form 424B). A duly authorized representative of the applicant organization must certify that the applicant is in compliance with these assurances and certifications. The applicant must certify its compliance with: (1) Drug-free workplace requirements; (2) debarment and other responsibilities; (3) Pro-Children Act of 1994 (Certification Regarding Environmental Tobacco Smoke). A signature on the SF 424 indicates compliance with the Drug Free Workplace Requirements, Debarment and Other Responsibilities and Environmental Tobacco Smoke Certifications.

4. Certification Regarding Lobbying. Applicants must include an executed Certification Regarding Lobbying prior to receiving an award in excess of $100,000.

5. Cover Letter that includes the announcement number and contact information for the applicant. The letter must be signed by an individual authorized to act for the applicant agency and to assume responsibility for the obligations imposed by terms and conditions of the grant award.

6. A signed Letter of Designation for the Local Council from a local government entity that explains its authority to make such a designation.

7. A Tribal Resolution, if applicable.

8. A Table of Contents.

9. A Project Description Summary/Abstract (one page maximum)—Clearly mark this page with the applicant's name as shown in Item 5 on the SF-424, identify the title of the proposed project as shown in Item 11, and the service area as shown in Item 12 of the SF-424. The Project Description Summary/Abstract must not exceed 300 words. The first paragraph must describe the precise location of the project and the boundaries of the area to be served including the following: the State, county(ies), specific locality(ies) (e.g., city, county, borough, township, parish, etc.) and/or region(s). Care should be taken to produce a Summary/Abstract that accurately and concisely reflects the proposed project. It should briefly describe the objectives of the project, the approach to be used, and the results and benefits expected.

10. The Project Narrative. The applicant is strongly encouraged to use the evaluation criteria in Part IV to organize its response to Part III, the Uniform Project Description. Specific information should be provided that addresses all components of each criterion. It is in the applicant's best interest to ensure that the project description is easy to read, logically developed in accordance with the evaluation criteria, and adheres to recommended page limitations. In addition, the applicant should be mindful of the importance of preparing and submitting applications using language, terms, concepts, and descriptions that are generally known to the field of early learning as defined under this announcement.

The pages of the project description must be double-spaced, printed on only one side, with no less than one-inch margins, and numbered. Applicants are strongly encouraged to limit this portion of their application to no more than 100 pages.

11. Appendices. The recommended maximum number of pages for supporting documentation is 50 numbered pages. These documents might include excerpts from the needs and resources assessment, resumes/job descriptions, photocopies of news clippings, documents related to the involvement and participation of the Local Council, and evidence of its efforts to coordinate child care services at the local level including letters of support and/or third-party agreements.

B. Submission of Application

To be considered for funding, the applicant must submit one signed original and two additional copies of the application, including all attachments, to the application receipt point specified above. The original copy of the application must have original signatures, signed in blue ink. Each copy must be stapled (back and front) in the upper left corner. All copies of an application must be submitted in a single package.

Each application will be duplicated, therefore, please do not use or include colored paper, colored ink, separate covers, binders, clips, tabs, plastic inserts, over-sized paper, videotapes, or any other items that cannot be easily duplicated on a photocopy machine with an automatic feed.

Do not bind, clip, staple, or fasten in any way separate subsections of the application, including the supporting documentation. Applicants are advised that a copy (not the original) of the application as submitted will be reproduced by the Federal government for review.

Dated: April 19, 2002.
Joan E. Ohl,
Commissioner, Administration on Children, Youth and Families.

Appendix A.—FY 2001 Early Learning Opportunity Act Grantees

Twenty-six Early Learning Opportunity Act (ELOA) grants were awarded in FY 2001. Listed below is the name of each grantee, the title of its project, and its geographic service area. The Federal Project Officer for these ELOA grants is Carol de Barba, who can be reached at 202-690-6243.

• Alameda County Children and Families Commission, San Leandro, CA 94577

Hand-in-Hand: The Alameda County Early Learning Partnership.

Alameda County is located on the eastside of San Francisco Bay and extends from the cities of Berkeley and Albany in the north to Fremont in the south. Alameda County is bounded on the north by Contra Costa County, on the south by Santa Clara County, on the southeast corner by Stanislaus County, on the east by San Joaquin County, and on the west by the San Francisco Bay.

• Bristol Bay Native Association, Dillingham, AK 99576

Bristol Bay Native Association Early Learning Opportunities Program.

The Bristol Bay region is located in Southwest Alaska. Its regional boundaries under the Alaska Native Claims Settlement Act extend about 350 miles North to South, and about 230 miles East to West. The region consists of 32 communities, 29 of which are federally recognized tribes. There are three separate census divisions: Bristol Bay Borough Census Area (three communities), the Dillingham Census Area (12 communities), and the Lake and Peninsula Borough Census Area (17 communities).

• Central Council Tlingit & Haida Indian Tribes of Alaska, Juneau, AK 99801

Encircled in a Blanket of Wellness: Children's Early Learning Mental Health Project.

This project serves the geographic area known as “Southeast Alaska” including the three large communities of Juneau, Sitka, and Ketchikan, and approximately 20 other communities. Southeast Alaska is a 600-mile long island archipelago and coastal strip also referred to as the “panhandle” of the state. The panhandle stretches from the Tsimpshian Native Village of Metlakatla in the South, to the Tlingit Native Village of Yakutat in the North.

• Community Connections, Inc., Bluefield, WV 24701

Mercer County Early Learning Project.

This is a county-wide project. Mercer County is located in the most southern part of West Virginia. The largest population base is located in the city of Bluefield; the County seat is Princeton.

• Community Coordinated Child Care, Hillside, NJ 24701

Union County Early Learning Opportunities Project

Union County is at the center of the New York—New Jersey Metropolitan Region, along the Boston—Washington Corridor. It is bounded by Essex County to the north, Morris and Somerset Counties to the west, and Middlesex County to the south. The Arthur Kill waterway separates the County from Staten Island, New York to the east. The County seat is Elizabeth.

• Durham's Partnership for Children, Durham, NC 27707

The Literacy and School Readiness Enhancement Pilot Project

This project serves Durham and Orange Counties. These counties are contiguous counties that are located in the Research Triangle area of central North Carolina.

• Early Childhood Care and Education Council of Multnomah County, Portland, OR 97204

Multnomah County Components of Early Learning.

The service area is Multnomah County, which includes the City of Portland.

• Early Learning Foundation, Seattle, WA 98115

Strengthening Early Learning Opportunities in King County Communities

This is a county-wide project serving King County including the City of Seattle.

• Fairbanks North Star Borough Early Childhood Development Commission (FNSB), Fairbanks, AK 99707

For all Families, A Community Model: Providing Early Childhood Education for Families and Communities and Promoting Excellence in Child Care in the FNSB.

The Borough is located in the central eastern half of Alaska and includes Fairbanks, Alaska and many surrounding small communities and rural areas covering 7,361 square miles.

• Family Central, Inc. On Behalf of Broward School Readiness Coalition, Inc., Fort Lauderdale, FL 33316

Broward Investment in Quality Care for Kids (BrIQCK).

Broward County is bounded by Miami-Dade County on the south, the Everglades and Collier County on the West, Palm Beach County on the north, and the Atlantic Ocean on the east. Major cities include Fort Lauderdale, Hollywood, and Pompano Beach.

• Gritman Medical Center On Behalf of the Early Childhood Service Council, Moscow, ID 83843

Early Learning Collaborative Project In A Rural Region of Northern Idaho.

This is a county-wide project in Latah County, which is located in North Central Idaho.

• Lenawee Intermediate School District, Adrian, MI 49221

Lenawee's Child (Helping to Increase Learning and Development).

Lenawee County is located in South Central Michigan along the Ohio border.

• Mid-America Regional Council (MARC), Kansas City, MO 64105

Early Childhood Excellence Project.

MARC serves as the association of city and county governments and the metropolitan planning organization for the bi-state Kansas City region. MARC serves an eight county area that includes Cass, Clay, Jackson, Platte, and Ray Counties in Missouri and Johnson, Leavenworth, and Wyandotte Counties in Kansas.

• Mid Coast Access to Child Care, Nobleboro, ME 04555

Enhancing Quality of Early Care.

The boundaries of the service area include the Counties of Waldo, Knox, Lincoln, and Sagadahoc County. It also includes the communities of Brunswick and Harpswell located within the northernmost part of Cumberland County.

• Mono County Office of Education On Behalf of the Mono County Child Care Council, Mono, CA 93546

Eastern Sierra Early Learning Collaborative.

The service area includes Alpine and Mono Counties in the eastern part of California.

• Napa County Office of Education On Behalf of the Napa County Child Care Planning Council, Napa, CA 97558

The E.A.R.L.Y. Project: Enhancing Accessibility and Readiness for Learning by Young Children.

Napa County is located in the Northern San Francisco Bay area, southwest of Sacramento, north of Oakland/Berkeley, and northeast of San Francisco.

• New Haven Public Schools, New Haven, CT 06519

New Haven Early Learning Opportunities Program.

The geographic location of the targeted service area is the City of New Haven. New Haven consists of 20 different neighborhoods and a federally-designated Empowerment Zone.

• People's Regional Opportunity Program, Portland, ME 04101

Cumberland County ACCESS/CITE Partnership for Child Care.

The geographic area covered by this partnership is the cities and towns in Cumberland County with the exception of Brunswick, Harpswell, and South Harpswell.

• San Bernardino County Human Services System, San Bernardino, CA 92415

San Bernardino Early Learning Opportunities Project.

This is a county-wide project in San Bernardino County, which is located in the center of Southern California. It is bounded by the States of Arizona and Nevada, and the Counties of Riverside, Los Angeles, Inyo, and Orange.

• San Mateo County Superintendent of Schools On Behalf of the San Mateo County Child Care Partnership Council, Redwood City, CA 94065

San Mateo County Early Learning Project.

San Mateo County is bounded by the Pacific Ocean to the west, the San Francisco Bay to the east, San Francisco to the north, and the City of San Jose and the County of Santa Clara to the south. It includes the cities of Redwood City, San Mateo, Daly City, East Palo Alto, Menlo Park, and South San Francisco.

• Southern Iowa Economic Development Association On Behalf of the Mahaska-Wapello Empowerment Area, Ottumwa, IA 52501

Parents As Teachers Expansion Program

The Mahaska-Wapello Empowerment Area includes the six Counties of Appanoose, Davis, Jefferson, Keokuk, Mahaska, and Wapello. These Counties are located in the lower three tiers of Southern Iowa.

• United Way of Greater Tucson, Tucson, AZ 85754

First Focus on Kids: Coordinating Early Learning Opportunities for Children and Their Families.

This project serves the following zip codes in and around the City of Tucson: 85705-06, 85710, 85711-13, 85716, 85719, 85730, and 85745-46.

• United Way of New York City, New York, NY 10016

New York City Early Learning Project.

This project serves the five Boroughs of New York City including Brooklyn, Bronx, Manhattan, Queens, and Staten Island.

• United Way Services, Richmond, VA 23241

Greater Richmond Early Development Coalition

The geographic area served by this Coalition includes the City of Richmond, and the Counties of Chesterfield and Henrico.

• United Way of Southeastern Pennsylvania, Philadelphia, PA 19103

Children Ready: Invest in Success.

The project boundary is the City of Philadelphia.

• Youth Health Service, Inc., Elkins, WV 26241

Quality Care: Improving the Quality of Early Learning Services in Two Impoverished Rural Counties.

The target communities of this project are in Barbour and Randolph Counties in the north and west central parts of West Virginia.

[FR Doc. 02-10105 Filed 4-24-02; 8:45 am]

BILLING CODE 4184-01-P